POSTAL SERVICE

39 CFR Part 111

Parcel Dimension Compliance

AGENCY: Postal Service.

ACTION: Proposed rule.

SUMMARY: The Postal Service is proposing to amend Mailing Standards of the United States Postal Service, Domestic Mail Manual (DMM) in various sections to expand the current requirement to include accurate parcel dimensions in a manifest.

DATES: Submit comments on or before February 9, 2026.

ADDRESSES: Mail or deliver written comments to the manager, Product Classification, U.S. Postal Service, 475 L'Enfant Plaza SW, Room 4446, Washington, DC 20260-5015. If sending comments by email, include the name and address of the commenter and send to PCFederalRegister@usps.gov, with a subject line of “Parcel Dimension Compliance”. Faxed comments are not accepted.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Catherine Knox at (202) 268-5636 or Garry Rodriguez at (202) 268-7281.

SUPPLEMENTARY INFORMATION: All submitted comments and attachments are part of the public record and subject to disclosure. Do not enclose any material in your comments that you consider to be confidential or inappropriate for public disclosure.

Currently, the Postal Service only requires mailers to include accurate parcel dimensions in a manifest (Shipping Services File (SSF) or other approved electronic documentation) when the dimensions exceed 1 cubic foot or 22 inches in length. Failure to comply with this requirement, would subject the parcel to the Dimension Noncompliance Fee.

The Postal Service is proposing to expand the current standard in the Domestic Mail Manual by requiring mailers to always include accurate dimensions (length, width, and height) for parcels included in a manifest. Dimensions would not be required for Flat Rate priced pieces or USPS Returns pieces. Failure to comply with the expanded requirement, would continue to subject the parcel to the Dimension Noncompliance Fee. This proposal would also continue to only apply to commercial Priority Mail Express, Priority Mail, USPS Ground Advantage, and Parcel Select, products.

The Postal Service is proposing to implement this change effective July 12, 2026,

Although exempt from the notice and comment requirements of the Administrative Procedure Act (5 U.S.C. 553(b), (c)) regarding proposed rulemaking by 39 U.S.C. 410(a), the Postal Service invites public comment on the proposed revisions to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, the Postal Service proposes the following changes to Mailing Standards of the United States Postal Service, Domestic Mail Manual (DMM), incorporated by reference in the Code of Federal Regulations (see 39 CFR 111.1):

PART 111—[AMENDED.]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

200 Commercial Letters, Cards, Flats, and Parcels

* * * * *

210 Commercial Mail Priority Mail Express

213 Prices and Eligibility

* * * * *

1.0 Prices and Fees

* * * * *

1.4 Dimensional Weight Price for Low-Density Parcels

* * * * *

[Delete 1.4.4, Dimensional Weight Pricing Dimension Standard, in its entirety.]

* * * * *

1.8 Nonstandard Fees

Except for Priority Mail Express Return service, a Priority Mail Express piece is subject to a nonstandard fee (see Notice 123—Price List) as follows:

* * * * *

[Revise the text of items g and h to read as follows:]

g. Shipping Services file manifests or other approved electronic documentation must include the extra service code (ESC) for the characteristics category (see 201.7.6.2).

h. Mailers of parcels requiring the characteristics extra service code (ESC) and have a Shipping Services file manifest or other approved electronic documentation, that do not meet the requirement to include the ESC under 1.8g will be assessed the Dimension Noncompliance fee under 1.9.

1.9 Dimension Noncompliance Fee

[Revise the first sentence of 1.9 to read as follows:]

Except for Flat Rate priced pieces and Priority Mail Express Return service pieces, mailers of Priority Mail Express parcels are required to include the parcel's dimensions (length, width, height), and when applicable the characteristics ESC (see 1.8g), in the Shipping Services file manifest or other approved electronic documentation or will be assessed the Dimension Noncompliance fee (see Notice 123—Price List) if the parcel's dimensions or ESC are omitted or inaccurate.* * *

* * * * *

220 Commercial Mail Priority Mail

223 Prices and Eligibility

1.0 Prices and Fees

* * * * *

1.4 Dimensional Weight Price for Low-Density Parcels

* * * * *

[Delete 1.4.4, Dimensional Weight Pricing Dimension Standard, in its entirety.]

* * * * *

1.10 Nonstandard Fees

Except for Flat Rate and Priority Mail Return service packages, a Priority Mail piece is subject to a nonstandard fee (see Notice 123—Price List) as follows:

* * * * *

[Revise the text of items g and h to read as follows:]

g. Shipping Services file manifests or other approved electronic documentation must include the extra service code (ESC) for the characteristics category (see 201.7.6.2).

h. Mailers of parcels requiring the characteristics extra service code (ESC) and have a Shipping Services file manifest or other approved electronic documentation, that do not meet the requirement to include the ESC under 1.10g will be assessed the Dimension Noncompliance fee under 1.11.

1.11 Dimension Noncompliance Fee

[Revise the first sentence of 1.11 to read as follows:]

Except for Flat Rate priced pieces and Priority Mail Return service pieces, mailers of Priority Mail parcels are required to include the parcel's dimensions (length, width, height), and when applicable the characteristics ESC (see 1.10g), in the Shipping Services file manifest or other approved electronic documentation or will be assessed the Dimension Noncompliance fee (see Notice 123—Price List) if the parcel's dimensions or ESC are omitted or inaccurate.* * *

* * * * *

250 Commercial Mail Parcel Select

253 Prices and Eligibility

1.0 Prices and Fees

* * * * *

1.2 Dimensional Weight Price for Low-Density Parcels

* * * * *

[Delete 1.2.4, Dimensional Weight Pricing Dimension Standard, in its entirety.]

* * * * *

1.7 Nonstandard Fees

Except for oversized priced parcels, a Parcel Select Destination Entry or USPS Connect Local piece is subject to a nonstandard fee (see Notice 123—Price List) as follows:

* * * * *

[Revise the text of items g and h to read as follows:]

g. Shipping Services file manifests or other approved electronic documentation must include the extra service code (ESC) for the characteristics category (see 201.7.6.2).

h. Mailers of parcels requiring the characteristics extra service code (ESC) and have a Shipping Services file manifest or other approved electronic documentation, that do not meet the requirement to include the ESC under 1.7g will be assessed the Dimension Noncompliance fee under 1.8.

1.8 Dimension Noncompliance Fee

[Revise the first sentence of 1.8 to read as follows:]

Mailers of Parcel Select parcels are required to include the parcel's dimensions (length, width, height), and when applicable the characteristics ESC (see 1.7g), in the Shipping Services file manifest or other approved electronic documentation or will be assessed the Dimension Noncompliance fee (see Notice 123—Price List) if the parcel's dimensions or ESC are omitted or inaccurate.* * *

* * * * *

280 Commercial Mail USPS Ground Advantage—Commercial

283 Prices and Eligibility

1.0 Prices and Fees

* * * * *

1.4 Dimensional Weight Price for Low-Density Parcels

* * * * *

[Delete 1.4.4, Dimensional Weight Pricing Dimension Standard, in its entirety.]

* * * * *

1.7 Nonstandard Fees

Except for oversized priced parcels and USPS Ground Return service parcels, a USPS Ground Advantage—Commercial piece is subject to a nonstandard fee (see Notice 123—Price List) as follows:

* * * * *

[Revise the text of items g and h to read as follows:]

g. Shipping Services file manifests or other approved electronic documentation must include the extra service code (ESC) for the characteristics category (see 201.7.6.2).

h. Mailers of parcels requiring the characteristics extra service code (ESC) and have a Shipping Services file manifest or other approved electronic documentation, that do not meet the requirement to include the ESC under 1.7g will be assessed the Dimension Noncompliance fee under 1.8.

1.8 Dimension Noncompliance Fee

[Revise the first sentence of 1.8 to read as follows:]

Except for USPS Ground Advantage Return service pieces, mailers of USPS Ground Advantage—Commercial parcels are required to include the parcel's dimensions (length, width, height), and when applicable the characteristics ESC (see 1.7g), in the Shipping Services file manifest or other approved electronic documentation or will be assessed the Dimension Noncompliance fee (see Notice 123—Price List) if the parcel's dimensions or ESC are omitted or inaccurate.* * *

* * * * *

Kevin Rayburn,
Attorney, Ethics and Legal Compliance.

[FR Doc. 2026-00131 Filed 1-7-26; 8:45 am]

BILLING CODE 7710-12-P